DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 6, 2010. Address written comments to Statutory Import Programs Staff, Room 3720, U.S. Department of Commerce, Washington, D.C. 20230. Applications may be examined between 8:30 A.M. and 5:00 P.M. at the U.S. Department of Commerce in Room 3720.

Docket Number: 10-025. Applicant: University of Minnesota (Dept. of Chemical Engineering and Materials Science), 151 Amundson Hall, 421 Washington Ave. SE, Minneapolis, MN 55455. Instrument: High Pressure Oxygen Sputtering System. Manufacturer: Forschungszentrum Juelich GmbH, Germany. Intended Use: The instrument will be used to synthesize thin films, or coatings, of very high crystalline quality materials known as complex oxides. A pertinent characteristic of this instrument is that the special design of the sputter sources and vacuum chamber/pumping system allows it to operate properly at pressures in excess of 1 Torr. It also is designed to work in pure oxygen and is capable us substrate heating to over 900 C in a high pressure such an environment. Justification for Duty-Free Entry: No instruments of the same general category as the foreign instrument being manufactured in the U.S. Application accepted by Commissioner of Customs: May 20, 2010.

Docket Number: 10-027. Applicant: Argonne National Laboratory, 9700 South Cass Ave., Lemont, IL 60439. Instrument: MultiView 400 SPM/NSOM/Confocal Multi Probe System Probe and Sample Scanning Scan Head Assembly. Manufacturer: Nanonics Imaging, Ltd., Israel. Intended Use: The instrument will be used to study the optical properties of nanoscale materials made of metal, semiconducting, or organic materials. The instrument can detect small changes in absorption, emission, and light-scattering properties of materials with a spatial resolution of under 100 nanometers. The system has dual scanning probe heads that are independently controlled, which enables illumination and detection with sub-wavelength spatial resolution. Justification for Duty-Free Entry: No instruments of the same general category as the foreign instrument being manufactured in the U.S. Application accepted by Commissioner of Customs: June 1, 2010.

Docket Number: 10-028. Applicant: Boston College, 140 Commonwealth Ave., Chestnut Hill, MA 02467. Instrument: Infrared Mirror Furnace 4 Mirror Furnace. Manufacturer: Crystal Systems Corp., Japan. Intended Use: To synthesize a large array of known crystals along with future exploration of novel new crystalline materials. A unique characteristic of this furnace is that it can synthesize extremely high quality crystals without crucible contact during growth, which prevents contamination. The technique employed during crystal growth is the “traveling solvent, floating zone” method, which produces ultra-high purity crystal due to the fact that no crucible touches or contaminates the crystal and feed material during crystal growth. The instrument also allows for visual monitoring of the crystal during its growth and nucleation and can achieve heating gradients greater than 1500 Celsius per centimeter. Justification for Duty-Free Entry: No instruments of the same general category as the foreign instrument being manufactured in the U.S. Application accepted by Commissioner of Customs: May 28, 2010.

Dated: June 10, 2010.
Christopher Cassel,
Director, IA Subsidies Enforcement Office.

[FR Doc. 2010-14544 Filed 6-15-10; 8:45 am]

BILLING CODE 3510-DS-S